DEPARTMENT OF COMMERCE

Foreign-Trade Zones Board

[B-53-2015]

Application for Additional Production Authority; The Coleman Company, Inc., Subzone 119I (Textile-Based Personal Flotation Devices); Notice of Public Hearing and Extension of Comment Period

The public hearing on the application for additional production authority submitted by The Coleman Company, Inc., for activity within Subzone 119I in Sauk Rapids, Minnesota (see 80 FR 49986, August 18, 2015) that was previously postponed (see 80 FR 74754, November 30, 2015) has been rescheduled. The Commerce examiner will hold the public hearing on February 24, 2016, 9:30 a.m., at the U.S. Department of Commerce, Hoover Building, Room 3407, 1401 Constitution Avenue NW., Washington, DC 20230. Interested parties should indicate their intent to participate in the hearing and provide a summary of their remarks (submitted to ftz@trade.gov or the address indicated below) no later than February 19, 2016.

The comment period for the case referenced above will be extended through March 11, 2016. Rebuttal comments may be submitted during the subsequent 15-day period, until March 28, 2016. Submissions (signed original and one electronic copy) shall be addressed to the FTZ Board's Executive Secretary at: Foreign-Trade Zones Board, U.S. Department of Commerce, Room 21013, 1401 Constitution Avenue NW., Washington, DC 20230-0002.

For further information, contact Pierre Duy at Pierre.Duy@trade.gov or (202) 482-1378.

Dated: December 17, 2015.
Andrew McGilvray,
Executive Secretary.

[FR Doc. 2015-32333 Filed 12-22-15; 8:45 am]

BILLING CODE 3510-DS-P